DEPARTMENT OF HOMELAND SECURITY

Coast Guard

[Docket No. USCG-2020-0187]

Proposed Distribution of Scheduled Navigation Safety Messages (Broadcast Notices to Mariners) by Mobile and Internet Methods

ACTION: Notice and request for comments.

SUMMARY: The Coast Guard will begin making broadcast notices to mariners containing locally relevant navigation information accessible by mobile devices and the internet. New methods of information delivery will include Rich Site Summary also known as Really Simple Syndication (RSS) feeds, email, and other means such as web-based graphic interfaces. The Coast Guard believes the internet and mobile availability will allow greater numbers of mariners to access this information, and to do so in a more-timely, reliable, convenient, and customized manner. Currently, the only way to obtain this information is to tune in to local Coast Guard broadcasts that take place on very high frequency (VHF) marine radio two or more times per day.

DATES: Comments must be submitted to the online docket via https://www.regulations.gov on or before July 28, 2020.

ADDRESSES: You may submit comments identified by docket number USCG-2020-0187 using the Federal e-Rulemaking Portal at http://www.regulations.gov. See the “Public Participation and Request for Comments” portion of the supplementary information section for further instructions on submitting comments.

FOR FURTHER INFORMATION CONTACT: For information about this document, please call or email Eugene Diotalevi, Coast Guard Navigation Center; telephone: 703-313-5800; email: BNM@uscg.mil.

SUPPLEMENTARY INFORMATION:

Public Participation and Comments

We encourage you to submit comments (or related material) on this Notice. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted, or a final rule is published.

We accept anonymous comments. All comments received will be posted without change to https://www.regulations.gov and will include any personal information you have provided. For more about privacy and submissions in response to this document, see DHS's eRulemaking System of Records notice (85 FR 14226, March 11, 2020).

Abbreviations

BNM Broadcast notices to mariners

NAVAREA Navigational Area

NAVTEX Navigation Telex Radio

RSS Rich Site Summary or Really Simple Syndication

VHF Very High Frequency

Discussion

The Coast Guard broadcasts scheduled navigation safety messages on VHF marine radio. These messages, called broadcast notices to mariners (BNMs), provide information about the status of Coast Guard aids-to-navigation (e.g. buoys, beacons, and lights), navigational hazards, maritime events, and other locally relevant maritime safety information. Scheduled broadcasts normally occur every six to twelve hours on marine VHF Channel 22A, and typically follow a brief announcement on Channel 16 reminding listeners that a Channel 22A broadcast is about to begin. The Coast Guard makes such broadcasts in order to alert mariners to information that will later be consolidated into local notices to mariners documents, which are published weekly by each Coast Guard District. Local notices to mariners documents are distributed at https://www.navcen.uscg.gov/LNM.

The information in BNMs is primarily targeted to local situations and conditions occurring within U.S. ports and waterways and in near-shore, and in-shore waters. These broadcasts should not be confused with other official navigational safety messages transmitted for the benefit of offshore and international maritime vessel traffic through established, internationally coordinated means, such as NAVTEX, NAVAREA, and coastal warnings. The Coast Guard is seeking to make such navigation safety information available to mobile device and internet users, which is expected to offer the following advantages:

(1) Improved Information Reach. More boaters and professional mariners for whom the navigation information is relevant will have access to it. The overwhelming majority of current VHF broadcasts concern events, hazards, aids-to-navigation, and other situations that are located in areas where there is offshore mobile data coverage. Greater numbers of mariners, especially those operating close to shore, increasingly make use of mobile technology in lieu of, or in addition to VHF marine radio. This will allow more people to benefit from access to the information.

(2) Greater Convenience. The Coast Guard plans to publish the information on an open-facing website that will allow mariners to customize the manner of delivery. For example, mariners will be able to receive an email for each broadcast made in a specified area; may choose to subscribe to an RSS feed; or may choose to visit a mobile-accessible website that displays the broadcasts that apply to a given geographical area. The Coast Guard is also developing other ways to access the information, including graphic interfaces, or through downloadable chart overlays that show the locations where pertinent marine safety information applies. Mariners will be able to access the latest information during times that are convenient to their situation, for example, while they are planning a voyage, or as they approach an entrance to a port or channel.

(3) Better Timeliness. Mariners will not have to wait for the next scheduled VHF broadcast to access critical information. They will gain access to individual navigation messages as soon as they are published.

The proposed new system of information distribution is presently being tested in the Fifth Coast Guard District. The public is urged to examine the following RSS feed as an illustration of this proposed new system at: https://public.govdelivery.com/topics/USDHSCG_250/feed.rss or to test out the graphic interface that returns customized reports of the most up-to-date broadcast notices in the Fifth Coast Guard District at https://navcen.uscg.gov/bnmmessages/DistrictSearchV1.php?d=5&i=4. This proposed new system of information distribution would not impact those other systems and procedures.

The Coast Guard is interested in the public's views about the proposed new system of information distribution being tested in the Fifth Coast Guard District, including ideas for how best to organize and distribute navigation safety information to mobile device users. The Coast Guard will consider all comments from the public. After considering any comments received, the Coast Guard will issue a notice in the Federal Register indicating how the matter will be resolved.

This notice is issued under the authority of 14 U.S.C. 504(a)(16) and 5 U.S.C. 552(a).

Dated: May 26, 2020.
Michael D. Emerson,
Director, Marine Transportation Systems.

[FR Doc. 2020-11619 Filed 5-28-20; 8:45 am]

BILLING CODE 9110-04-P